DEPARTMENT OF COMMERCE

International Trade Administration

[C-423-809]

Stainless Steel Plate in Coils from Belgium: Preliminary Results of Countervailing Duty Administrative Review

AGENCY: Import Administration, International Trade Administration, Department of Commerce

ACTION: Notice of Preliminary Results of Countervailing Duty Administrative Review.

SUMMARY: The Department of Commerce is conducting an administrative review of the countervailing duty order on stainless steel plate in coils from Belgium for the period September 4, 1998, through December 31, 1999. We have preliminarily determined that the only producer/exporter covered by this review, ALZ N.V., received net subsidies during the period of review. If the final results remain the same as these preliminary results, we will instruct the U.S. Customs Service to assess countervailing duties as detailed in the Preliminary Results of Review section of this notice. Interested parties are invited to comment on these preliminary results (see the Public Comment section of this notice).

EFFECTIVE DATE: April 23, 2001.

FOR FURTHER INFORMATION CONTACT: Jarrod Goldfeder, Melani Miller, or Anthony Grasso, AD/CVD Enforcement, Group I, Office 1, Import Administration, U.S. Department of Commerce, 14th Street and Constitution Avenue, NW, Washington, DC 20230; telephone (202) 482-0189, (202) 482-0116, or (202) 482-3853, respectively.

SUPPLEMENTARY INFORMATION:

Applicable Statute and Regulations

Unless otherwise indicated, all citations to the statute are references to the provisions of section 751(a) of the Tariff Act of 1930, as amended by the Uruguay Round Agreements Act (“URAA”) effective January 1, 1995 (“the Act”). Similarly, all citations to the Department of Commerce's (“the Department”) regulations are to the current regulations as codified at 19 CFR Part 351 (2000), including the new substantive countervailing duty regulations published in the Federal Register on November 25, 1998 (63 FR 65348), unless otherwise indicated.

Background

On May 11, 1999, the Department published in the Federal Register (64 FR 25288) the countervailing duty order on stainless steel plate in coils from Belgium. On May 16, 2000, the Department published a notice of “Opportunity to Request Administrative Review” of this countervailing duty order (65 FR 31141). On May 31, 2000, we received a timely request for review of ALZ N.V. (“ALZ”) from Allegheny Ludlum Corp., Armco, Inc., Lukens Inc., and United Steelworkers of America, AFL-CIO/CLC (collectively, “the petitioners”).

We initiated the review, covering calendar year 1999, on July 7, 2000 (65 FR 41942). As noted below in the Period of Review section, the appropriate period of review (“POR”) in this proceeding is September 4, 1998 through December 31, 1999, not calendar year 1999. Corrections to the initiation notice to revise the POR were published in the Federal Register on October 2, 2000 (65 FR 58733) and October 30, 2000 (65 FR 64662).

On July 26, 2000, we received a timely allegation from the petitioners concerning several additional subsidies. The petitioners also requested that the Department re-investigate several equity programs that had been examined in the investigation. See Final Affirmative Countervailing Duty Determination; Stainless Steel Plate in Coils from Belgium, 64 FR 15567 (March 31, 1999) (“Plate in Coils from Belgium”). ALZ submitted information rebutting these allegations and requests on August 7, 2000. We decided to include two of the newly-alleged subsidy programs in this review; we also decided to re-examine two previously-investigated equity investments from Plate in Coils from Belgium. We determined not to investigate two of the newly-alleged subsidy programs. See October 19, 2000 memorandum to Richard W. Moreland, Deputy Assistant Secretary for AD/CVD Enforcement, entitled “New Subsidy Allegations” (“New Allegations Memo”), which is on file in the Import Administration's Central Records Unit, Room B-099 of the main Department of Commerce building (“CRU”).

In accordance with 19 CFR 351.213(b), this review of the order covers ALZ, the only company for which a review was specifically requested. This review covers 27 programs, including the four programs for which we initiated an investigation or re-investigation, noted above.

On August 9, October 4, October 19, and December 5, 2000, we issued countervailing duty questionnaires and supplemental questionnaires to the Government of Belgium (“GOB”), the Government of Flanders (“GOF”), the Commission of the European Union (“EC”), and ALZ. We received timely responses from these parties in October and November 2000 and January 2001.

On January 2, 2001, the Department published a notice in the Federal Register extending the time limit for issuing these preliminary results until no later than April 16, 2001 (66 FR 95).

Scope of the Review

Imports covered by this review are shipments of certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of this order are the following: (1) Plate not in coils, (2) plate that is not annealed or otherwise heat treated and pickled or otherwise descaled, (3) sheet and strip, and (4) flat bars. In addition, certain cold-rolled stainless steel plate in coils is also excluded from the scope of this order. The excluded cold-rolled stainless steel plate in coils is defined as that merchandise which meets the physical characteristics described above that has undergone a cold-reduction process that reduced the thickness of the steel by 25 percent or more, and has been annealed and pickled after this cold reduction process.

The merchandise subject to this order is currently classifiable in the Harmonized Tariff Schedule of the United States (“HTSUS”) at subheadings: 7219.11.00.30, 7219.11.00.60, 7219.12.00.05, 7219.12.00.20, 7219.12.00.25, 7219.12.00.50, 7219.12.00.55, 7219.12.00.65, 7219.12.00.70, 7219.12.00.80, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTSUS subheadings are provided for convenience and for Customs Service (“Customs”) purposes, the written description of the scope of the order is dispositive.

Period of Review

According to section 351.213(e)(2)(ii) of the Department's regulations, in the case of the first administrative review of a countervailing duty order, the POR should extend from the initial date of suspension of liquidation of the subject merchandise to the end of the most recently completed fiscal year. In this case, suspension of liquidation began on September 4, 1998, the date of publication of the preliminary results in Plate in Coils from Belgium. See Preliminary Countervailing Duty Determination and Alignment of Final Countervailing Duty Determination With Final Antidumping Duty Determination: Stainless Steel Plate in Coils From Belgium, 63 FR 47239 (September 4, 1998). Therefore, the POR for which we are measuring countervailable subsidies is from September 4, 1998 through December 31, 1999.

Because it is the Department's practice to calculate subsidy rates on an annual basis, we calculated a 1998 rate and a 1999 rate for ALZ. The rate calculated for 1998 will be applicable only to entries, or withdrawals from warehouse, for consumption made on and after September 4, 1998 through the end of 1998.

Subsidies Valuation Information

Responding Producers

In Plate in Coils from Belgium, we found that ALZ had two subsidiaries which were involved in the production of the subject merchandise, ALBUFIN N.V. (“Albufin”) and AL-FIN N.V. (“Alfin”). ALZ has reported in the instant review that, as of the end of 1998, Albufin was merged into ALZ and no longer exists as a separate entity. We have included subsidies to these companies in the subsidy rate for ALZ for the POR. Furthermore, SIDMAR (“Sidmar”) owns either directly or indirectly 100 percent of ALZ's voting shares and is the overall majority shareholder of ALZ. Therefore, in accordance with section 351.525(a)(6)(iii) of the Department's regulations, because ALZ is a fully consolidated subsidiary of Sidmar, any untied subsidies provided to Sidmar are attributable to ALZ.

Benchmarks for Long-term Loans and Discount Rates

Both ALZ and Sidmar obtained long-term commercial loans contemporaneously with the receipt of certain government loans or grants that are under review. Therefore, where ALZ or Sidmar obtained long-term commercial loans, we used the company-specific interest rates as the long-term loan benchmark interest rate or discount rate. See section 351.505(a)(2)(ii) of the Department's regulations. For all other years, we used national average rates for long-term, fixed-rate debt as the long-term loan benchmark interest rate or discount rate. See section 351.505(a)(3)(ii) of the Department's regulations.

Equity Methodology

Section 771(5)(E)(i) of the Act and section 351.507 of the Department's regulations state that, in the case of government-provided equity infusion, a benefit is conferred if an equity investment decision is inconsistent with the usual investment practice of private investors.

Consistent with the methodology discussed in section 351.507 of the Department's regulations, the first question in analyzing a benefit with respect to an equity infusion is whether, at the time of the infusion, there was a market price for similar newly-issued equity. If so, the Department will consider an equity infusion to be inconsistent with the usual investment practice of private investors if the price paid by the government for newly-issued shares is greater than the price paid by private investors for the same, or similar, newly-issued shares.

If actual private investor prices are not available, then the Department will determine whether the firm funded by the government-provided infusion was equityworthy or unequityworthy at the time of the equity infusion. (See section 351.507(a)(3)(i) of the Department's regulations.) Section 351.507(a)(4)(ii) of the Department's current regulations further stipulates that the Department will “normally require from the respondents the information and analysis completed prior to the infusion, upon which the government based its decision to provide the equity infusion.” Absent an analysis containing information typically examined by potential private investors considering an equity investment, the Department will normally determine that the equity infusion provides a countervailable benefit. This is because, before making a significant equity infusion, it is the usual investment practice of private investors to evaluate the potential risk versus the expected return, using the most objective criteria and information available to the investor.

In this review, as noted above, the Department is examining three government equity infusions. See 1984 Purchase of Sidmar's Common and Preference Shares, 1985 ALZ Share Subscriptions, and Sidmar's Debt to Equity (OCPC-to-PB) conversion in 1985 in the individual program descriptions, below, for an individual analysis relating to each of the three GOB equity infusions.

Allocation Period

In Plate in Coils from Belgium, in accordance with a Court of International Trade (“CIT”) decision, we calculated company-specific allocation periods for non-recurring subsidies using company-specific average useful life (“AUL”) data. (See British Steel plc v. United States, 929 F. Supp. 426, 439 (CIT 1996)). We determined that the AUL for ALZ was 15 years, and that the AUL for Sidmar was 19 years.

Since Plate in Coils from Belgium, new countervailing duty regulations have come into force and are applicable to this review. Pursuant to section 351.524(d)(2) of these regulations, the Department will presume the allocation period for non-recurring subsidies to be the AUL of renewable physical assets as listed in the IRS tables unless a party claims and establishes that the IRS tables do not reasonably reflect the company-specific AUL or the country-wide AUL for the industry. In this case, the AUL in the IRS tables is 15 years.

With respect to non-recurring subsidies received prior to the POR which have already been countervailed and allocated based on an allocation period established in Plate in Coils from Belgium, it is neither reasonable nor practicable to reallocate those subsidies over a different time period. Therefore, we have preliminarily decided to allocate non-recurring subsidies countervailed in Plate in Coils from Belgium over 15 years for ALZ and over 19 years for Sidmar. This methodology is consistent with our approach in Certain Carbon Steel Products from Sweden; Final Results of Countervailing Duty Administrative Review, 62 FR 16549 (April 7, 1997) and Certain Pasta from Italy: Final Results of Third Countervailing Duty Administrative Review, 66 FR 11269 (February 23, 2001).

With respect to new non-recurring subsidies which have not been previously allocated, ALZ (also responding on behalf of Sidmar) does not contest the use of the 15-year allocation period in the IRS tables for both ALZ and Sidmar. The petitioners, however, have argued that, because a 19-year company-specific AUL for Sidmar was verified in Plate in Coils from Belgium, and because that AUL differs from the IRS table AUL by more than one year, the presumption that the IRS AUL is the most appropriate for Sidmar has been rebutted. (The petitioners do not contest the use of the AUL from the IRS tables for ALZ.) Moreover, the petitioners note that, in Plate in Coils from Belgium, ALZ itself argued that the Department should use the 19-year AUL for Sidmar. The petitioners point out that ALZ, in its case brief in Plate in Coils from Belgium, noted that, even if that investigation had been conducted under the new regulations, Sidmar would qualify for a company-specific AUL.

ALZ disagrees with the petitioners, and argues that the 15-year AUL included in the IRS tables is the most appropriate AUL to use for Sidmar. ALZ argues that any entity wishing to rebut the presumption of the use of the IRS tables must actually demonstrate that the IRS table AUL is inappropriate. ALZ contends that the petitioners did not meet the burden of proof set forth in section 351.524(d)(2)(iii) of the Department's regulations, and, hence, have not rebutted the presumption of a 15-year AUL for Sidmar.

In further support of its arguments, ALZ notes that the 19-year AUL derived in the investigation was based on information derived from Sidmar NV, not on information from the entire Sidmar Group (of which Sidmar NV is one part). Given that the subsidies in question were received by the Sidmar Group, Sidmar NV's experience should not be sufficient to rebut the presumption as it applies to the Sidmar Group.

Given that we relied on Sidmar NV's data to calculate Sidmar's AUL in Plate in Coils from Belgium and, thus, we have a relative recently calculated AUL that has been applied to Sidmar, we have continued to use a 19-year AUL for these preliminary results. However, we invite further comment on this issue for the final results. While we acknowledge that we used Sidmar NV's data in Plate in Coils from Belgium, we did so because it was the best company-specific information we had at that time. However, given the preference in the new regulations for IRS data, we believe that it is appropriate to reconsider whether IRS data should not be preferred to company-specific data which is flawed because it is based only on a portion of the subsidy recipient's data.

As for ALZ, because no party has demonstrated that another period was more appropriate than the AUL period required by the Department's current regulations, any new, not previously allocated non-recurring subsidies received by ALZ during the current POR are being allocated over 15 years as specified in the IRS tables.

Analysis of Programs

I. Programs Preliminarily Determined to Confer Subsidies

A. 1985 ALZ Share Subscriptions (identified as 1985 ALZ Share Subscriptions and Subsequent Transactions in Plate In Coils from Belgium)

In 1985, the GOB made three share subscriptions (one subscription for ordinary shares and two for preference shares) in ALZ. These purchases followed Royal Decree No. 245 of December 31, 1983, which allowed the GOB to make preference share subscriptions in the steel industry as long as the subscriptions did not exceed one-half of the social capital of the company. ALZ, the GOB, and the Nationale Maatschappig voor de Herstructurering van de Nationale Sectoren (“NMNS”), the government agency purchasing the shares, signed an agreement with respect to these purchases on July 10, 1985. ALZ's shareholders approved of these share acquisitions on September 26, 1985.

In Plate in Coils from Belgium, we analyzed whether the GOB's 1985 share purchases conferred a benefit on ALZ according to the equity methodology that was in place prior to the issuance of the Department's current subsidy regulations. We found in our investigation that ALZ was equityworthy and that the GOB's 1985 share subscriptions in ALZ did not constitute a countervailable subsidy within the meaning of section 771(5) of the Act. However, in the instant review, as explained in our New Allegations Memo, we have re-initiated an investigation of these 1985 share subscriptions based on the change in our equity methodology from the time of the original investigation of this program.

ALZ has reported that there was no market price for similar newly-issued equity at the time the GOB purchased ALZ's equity, as neither ALZ's common nor preference shares were publicly traded. Therefore, we must determine whether ALZ was equityworthy or unequityworthy at the time of the 1985 equity infusion.

As explained in the Equity Methodology section, above, we first examined any analysis relied upon by the GOB in making its decision to invest in ALZ. Based on our review of this information, we have preliminarily determined that no objective studies of ALZ had been prepared prior to the GOB's investment decision on which the GOB could have based its investment decision. See the Department's April 16, 2001, memorandum to Richard W. Moreland, Deputy Assistant Secretary for AD/CVD Enforcement entitled “Government of Belgium Equity Infusions: 1984 Infusion in Sidmar, 1985 Infusion in ALZ, and the Conversion of Sidmar's Debt to Equity (OCPC-to-PB) in 1985” (“Equity Infusions Memorandum”) (on file in the CRU).

Therefore, we preliminarily determine that the GOB's purchases of ALZ's ordinary and preferred shares in 1985 constitute a countervailable subsidy within the meaning of section 771(5) of the Act. These investments provide a financial contribution, as described in section 771(5)(D)(i) of the Act. Also, in Plate in Coils from Belgium, we determined that benefits under Royal Decree No. 245 are available only to the steel sector. On this basis, we preliminarily determine that this program is specific under section 771(5A)(D)(i) of the Act. Finally, because no analysis was performed containing information typically examined by potential private investors considering an equity investment prior to the GOB's decision to invest in ALZ, the investment decision was inconsistent with the usual investment practice of private investors. Therefore, a benefit exists according to section 771(5)(E)(i) of the Act in the amount of the equity infusion.

To calculate the benefit applicable to the POR, we applied the Department's standard grant methodology. Because we could not determine according to section 351.524(b)(2) of the Department's regulations whether we should allocate this non-recurring expense to the year in which it was approved because we did not have relevant sales information for that year, we preliminarily allocated the benefit over the AUL for ALZ. We will seek information from ALZ with respect to the appropriate sales information for the final results. We divided the total benefit attributable to 1998 and 1999 by ALZ's total sales during 1998 and 1999, respectively. On this basis, we preliminarily determine the countervailable subsidy for 1998 to be 0.69 percent ad valorem, and the countervailable subsidy for 1999 to be 0.62 percent ad valorem.

B. 1987 ALZ Common Share Transaction Between the GOB and Sidmar (also identified as 1985 ALZ Share Subscriptions and Subsequent Transactions in Plate In Coils from Belgium)

As discussed above, in 1985, the GOB made three share subscriptions in ALZ involving both common shares and preference shares. In 1987, the GOB sold the common shares it had purchased to Kempense Investeringsvennootschap, a company controlled by Sidmar.

In Plate in Coils from Belgium, we concluded that the GOB did not behave as a private investor when selling its shares in 1987 because it accepted a lower price than it otherwise could have obtained for the shares. Therefore, we determined that the GOB's 1987 sale of ALZ's common shares to Sidmar constituted a countervailable subsidy within the meaning of section 771(5) of the Act. The sale provided a financial contribution, as described in section 771(5)(D)(i) of the Act. Moreover, we found that benefits under Royal Decree No. 245 were available only to the steel sector. On this basis, we determined that the program was specific under section 771(5A)(D)(i) of the Act. In this review, no new information has been placed on the record which would warrant reconsideration of this determination.

To calculate the benefit conferred during the POR, we took the difference between market value for ALZ's common stock and the price paid by Sidmar for the stock, and treated the difference as a grant. We then applied the Department's standard grant methodology and divided the benefit in 1998 and 1999 by Sidmar's total consolidated sales during 1998 and 1999, respectively. On this basis, we preliminarily determine the countervailable subsidy for 1998 to be 0.07 percent ad valorem, and the countervailable subsidy for 1999 to be 0.07 percent ad valorem.

C. Industrial Reconversion Zones

Alfin

Alfin was established as a “proper” reconversion company in 1985 under the reconversion program “Herstelwet 1984.” Alfin was financed by a government agency, Nationale Investeringsmaatschappij (“NIM”), and ALZ. In exchange for its investment, NIM received non-voting preferred shares and a two percent annual return on its investment. ALZ was obligated to repurchase all of the shares purchased by NIM at the issued price over a ten-year period.

Using the hierarchical criteria discussed in the “Classification of Hybrid Financial Instruments Issue” section of the General Issues Appendix to the Final Affirmative Countervailing Duty Determination: Certain Steel Products from Austria, 58 FR 37217, 37239 (July 9, 1993), we found in Plate In Coils from Belgium that these shares constituted debt instruments because they have a fixed repayment period. These debt instruments remained outstanding during part of the POR.

In Plate In Coils from Belgium, we found that this program conferred a countervailable subsidy within the meaning of section 771(5) of the Act. This program provided a financial contribution as described in section 771(5)(D)(i) of the Act. Moreover, because benefits under the “Herstelwet 1984” law were limited to firms in certain regions of the country, the program was specific under section 771(5A)(D)(iv) of the Act. In this review, no new information has been placed on the record which would warrant reconsideration of this determination.

To measure the benefit conferred by this loan during the POR, we used our long-term fixed-rate loan methodology. We divided the subsidy allocated to 1998 by ALZ's total sales for 1998. On this basis, we preliminarily determine the countervailable subsidy for 1998 to be 0.17 percent ad valorem.

ALZ reported that it completed its repurchase of the shares held by NIM in 1998. Therefore, we preliminarily determine that this program did not confer a countervailable subsidy in 1999.

Albufin

Albufin was established as an “improper” reconversion company in 1989, also under the reconversion program “Herstelwet 1984.” Albufin received its initial capital from the government (NIM), the Sidmar Group (FININDUS), a private company (Klockner Stahl), and ALZ. In Plate In Coils from Belgium, we determined that, because Klockner Stahl was a private company at the time of Albufin's establishment, and it invested on the same terms as the government, there was no countervailable benefit resulting from the establishment of the company. However, we found that, as an “improper” reconversion company, Albufin benefitted from a tax exemption on dividend payments and was exempt from the capital registration tax.

In Plate In Coils from Belgium, we determined that these tax benefits received by Albufin were countervailable subsidies within the meaning of section 771(5) of the Act. The tax benefits were a financial contribution as described in section 771(5)(D)(ii) of the Act which provided a benefit to the recipient in the amount of the tax savings. Because benefits under the “Herstelwet 1984” law were limited to firms in certain regions of the country, we determined that this program was specific under section 771(5A)(D)(iv) of the Act. In this review, no new information has been placed on the record which would warrant reconsideration of this determination.

During the POR, Albufin (which merged into ALZ on November 1, 1998), did not receive tax savings under the capital registration tax; Albufin did, however, benefit during the POR from the exemption on dividend payments. To measure the benefit from this tax exemption, we treated the 1998 and 1999 tax savings as a recurring benefit and divided them by ALZ's total sales during 1998 and 1999, respectively. On this basis, we preliminarily determine the countervailable subsidy for 1998 to be 0.05 percent ad valorem, and the countervailable subsidy for 1999 to be 0.03 percent ad valorem.

D. Regional Subsidies under the Economic Expansion Law of 1970

The 1970 Law offers various incentives to enterprises located within designated disadvantaged regions. Although the GOB originally oversaw the implementation of the 1970 Law, pursuant to the overall devolution of power from the GOB to the regional governments since the early 1980s, the authority to administer the 1970 Law has been transferred to the regional governments. With respect to Flanders, many of the 1970 Law subsidy programs have been implemented and administered by the GOF since the late 1980s and the “execution modalities” have been amended by several Flemish decrees. Currently, the GOB funds the programs under the 1970 Law as part of a lump sum provided to finance the overall operations of the GOF.

The Department found in Plate in Coils from Belgium that ALZ received several types of assistance under the 1970 Law subsidy: 1993 Expansion Grant, Investment and Interest Subsidies, Accelerated Depreciation, and Real Estate Tax Exemption. Most of this assistance was provided after the GOF assumed control of the subsidy programs. Therefore, pursuant to Plate in Coils from Belgium, we are treating the GOF as the authority providing these subsidies. However, ALZ received one grant in 1983 (Investment and Interest Subsidies). The Department considers this grant bestowed by the GOB because it was received prior to the GOF takeover of 1970 Law authority.

The GOF's framework for economic expansion consists of the 1970 Law (for medium and large-sized businesses located in a disadvantaged region), the Act of August 4, 1978 (“1978 Act,” for small businesses and one-man companies), and the 1993 Economic Expansion Decree (“1993 Decree,” for medium and large-sized businesses not eligible for assistance under the 1970 Law). These laws provide various subsidies designed to promote expansion, employment, investment, research and development, and conformance with environmental standards.

In Plate in Coils from Belgium, the Department determined that, in certain instances, subsidies provided under the current economic expansion laws—the 1978 Act, the 1993 Decree, and the 1970 Law—should be considered as one program for specificity purposes. Specifically, the Department found that the environmental grants and environmental real estate tax exemptions provided pursuant to those laws are integrally linked. Moreover, we determined that environmental grants and environmental real estate tax exemptions are not specific and, therefore, not countervailable. However, with respect to the other subsidies received by Albufin under the 1970 Law (i.e., the 1993 Expansion Grant, the Real Estate Tax Exemption for Albufin's expansion investment, and Accelerated Depreciation), these subsidies were either not available to large companies under the 1993 Decree or the 1978 Act, or, in the case of the 1993 Expansion Grant, the 1993 Decree was not in effect at the time the subsidy was approved. Therefore, we determined that these subsidies provided under the 1970 Law cannot be integrally linked with the 1993 Decree or the 1978 Act.

Following is a discussion relating to the Expansion Real Estate Tax Exemption and Accelerated Depreciation programs. The 1993 Expansion Grant and Investment and Interest Subsidies programs can be found below in the Programs Preliminarily Determined to Be Not Used section.

Expansion Real Estate Tax Exemption

Pursuant to Article 16 of the 1970 Law, assets acquired using benefits received under the 1970 Law may be exempted from real estate taxes for up to five years, depending on the extent to which objectives of the 1970 Law are achieved. Albufin utilized this tax exemption for an expansion project.

In Plate in Coils from Belgium, we found that this expansion real estate tax exemption was countervailable within the meaning of section 771(5) of the Act. We determined it to be a financial contribution as described in section 771(5)(D)(ii) of the Act that provides a benefit to the recipient in the amount of the tax savings. As noted above, only the 1970 Law provides tax exemptions for expansion investments to large enterprises and since the 1970 Law only provides subsidies to companies located in certain regions, we determined that this expansion real estate tax exemption was specific under section 771(5A)(D)(iv) of the Act. In this review, no new information has been placed on the record that would warrant reconsideration of this determination.

In 1998, Albufin received tax savings under this plan. To measure the benefit from this tax exemption, we treated the 1998 tax savings as a recurring benefit and divided it by ALZ's total sales during 1998. On this basis, we preliminarily determine the countervailable subsidy for 1998 to be 0.10 percent ad valorem. This tax benefit expired for Albufin in 1998. Therefore, we preliminarily determine that this program did not confer a countervailable subsidy in 1999 upon Albufin.

Accelerated Depreciation

Article 15 of the 1970 Law allows certain companies to declare twice the standard depreciation for assets acquired using grants bestowed under the law.

In Plate in Coils from Belgium, we found that this tax benefit received by Albufin, an ALZ subsidiary, was countervailable within the meaning of section 771(5) of the Act. The Department determined this tax benefit to be a financial contribution as described in section 771(5)(D)(ii) of the Act that provides a benefit to the recipient in the amount of the tax savings. The Department also determined this program to be specific under section 771(5A)(D)(iv) of the Act because only enterprises that were situated in certain development zones were eligible to apply for accelerated depreciation. In this administrative review, no new information has been placed on the record that would warrant reconsideration of this determination.

In the instant review, ALZ claimed accelerated depreciation related to environmental investment projects during fiscal years 1997 (tax form filed in 1998) and 1998 (tax form filed in 1999). In Plate in Coils from Belgium, we found environmental grants and environmental real estate tax exemptions provided pursuant to the 1970 Law, the 1978 Act, and the 1993 Decree to be integrally linked, because in this respect, each of these laws complements and cross references the others in its “area of application.” The 1970 Law provides environmental grants and real estate tax exemptions for investments by medium- and large-sized enterprises located in development zones, the 1993 Decree provides them for investments by medium- and large-sized firms “not eligible for assistance under the 1970 Law,” and the 1978 Act provides the same subsidies for investments by small-sized companies.

In Plate in Coils from Belgium, we did not make a similar determination with respect to accelerated depreciation as ALZ was in a tax loss position during the period of investigation and, thus, did not benefit from this program. However, because only the 1970 Law allows accelerated depreciation claims on environmental investment projects (grants), we preliminarily find the 1970 Law not to be integrally linked with the 1978 Act and the 1993 Decree in this regard.

In calculating ALZ's benefit from accelerated depreciation, we treated the tax savings as a recurring benefit and divided it by ALZ's total sales during the POR. On this basis, we preliminarily determine ALZ's countervailable subsidy for 1998 to be 0.06 percent ad valorem.

As in Plate in Coils from Belgium, we did not find ALZ's use of accelerated depreciation to confer a countervailable benefit in 1999 as ALZ was in a tax loss position for the return filed in that year.

E. Belgian Industrial Finance Company (“Belfin”) Loans

Belfin was established by Royal Decree on June 29, 1981, as a mixed corporation with 50 percent GOB participation and 50 percent private industry participation. In the Final Affirmative Countervailing Duty Determinations: Certain Steel Products from Belgium, 58 FR 37273 (July 9, 1993) (“Certain Steel”), we determined that Belfin's objective is to finance investments needed for the restructuring and development of various sectors of industry, commerce, and state services. Belfin borrows money in Belgium and on international markets, with the benefit of government guarantees, in order to obtain the funds needed to make loans to Belgian companies. The government's guarantee makes it possible for Belfin to borrow at favorable interest rates and to pass the savings along when it lends the funds to Belgian companies. Belfin loans to Belgian companies are not guaranteed by the GOB. Moreover, these loans carry a one percent commission which is used to maintain a guarantee fund to support the GOB's guarantee of Belfin's borrowing. ALZ had Belfin loans outstanding during the POR.

In Plate in Coils from Belgium, we determined that this program constituted a countervailable subsidy within the meaning of section 771(5) of the Act. These loans provided a financial contribution, as described in section 771(5)(D)(i) of the Act, with the benefit equal to the difference between the benchmark rate and the rate ALZ pays on these loans. Although the objective of Belfin loans is to assist the restructuring and development of various sectors, we found that steel companies were the predominant recipients of Belfin loans. Therefore, we determined that the Belfin loans to the steel industry were specific under section 771(5A)(D)(iii) of the Act. In this review, no new information has been placed on the record that would warrant reconsideration of this determination.

To measure the benefit of these loans, we used our long-term fixed-rate loan methodology. For the outstanding Belfin loan to ALZ, we divided the subsidy amount received in 1998 by ALZ's total sales during 1998. On this basis, we preliminarily determine the countervailable subsidy for 1998 to be 0.00 percent ad valorem. The Belfin loan to ALZ was repaid in 1998. Therefore, we preliminarily determine that this loan did not confer a countervailable subsidy on ALZ in 1999.

There was also an outstanding Belfin loan to Alfin. We preliminarily determine that no benefit was conferred in either 1998 or 1999; therefore, this loan did not confer a countervailable subsidy within the POR.

F. Societe Nationale de Credite a l'Industrie (“SNCI”) Loans

SNCI was a public credit institution, which, through medium-term and long-term financing, encouraged the development and growth of industrial and commercial enterprises in Belgium. SNCI was organized as a limited liability company and, until 1997, was 50 percent owned by the Belgian government. ALZ received investment loans from SNCI which were outstanding during the POR.

In Plate in Coils from Belgium, we determined that loans made through SNCI conferred countervailable subsidies within the meaning of section 771(5) of the Act. These loans provided a financial contribution as described in section 771(5)(D)(i) of the Act. As for the specificity of these loans, we determined that SNCI loans for the years 1987 through 1990 were not specific and, thus, not countervailable. For SNCI loans made since 1991, because we found that the GOB did not participate to the best of its ability with respect to providing information relating to these loans, we used adverse facts available to determine that SNCI loans provided after 1991 were specific under section 771(5A)(D)(iii) of the Act. (See Plate in Coils from Belgium, 64 FR at 15570.) In this review, no new information has been placed on the record that would warrant reconsideration of this determination.

To calculate the benefit applicable to the POR, we used both the former and the current regulations' long-term fixed-interest rate loan methodologies. We did this because, for certain of ALZ's SNCI loans, the fixed interest rates were revised for the POR. Therefore, in allocating the benefit, if the fixed interest rate changed since Plate in Coils from Belgium, we utilized the methodology from the new regulations; if the interest rate did not change, we continued to follow the methodology used in Plate in Coils from Belgium.

To measure the benefit of these loans, we divided the benefit attributable to 1998 and 1999 by ALZ's total sales in 1998 and 1999, respectively. On this basis, we preliminarily determined the countervailable subsidy for 1998 to be 0.04 percent ad valorem, and the countervailable subsidy for 1999 to be 0.01 percent ad valorem.

G. Subsidies Provided to Sidmar that are Attributable to ALZ

As discussed in the Responding Producers section above, Sidmar owns either directly or indirectly 100 percent of ALZ's voting shares. Because ALZ is a fully consolidated subsidiary of Sidmar, any untied subsidies provided to Sidmar are attributable to ALZ (see, e.g., Certain Hot-Rolled Lead and Bismuth Carbon Steel Products From the United Kingdom; Final Results of Countervailing Duty Administrative Review, 63 FR 18367 (April 15, 1998)). In Plate in Coils from Belgium, Certain Steel, and the Department's redetermination on remand of Certain Steel, we found that Sidmar received countervailable benefits that were attributable to the entire Sidmar Group. Thus, we determine that the following three programs provide countervailable benefits to ALZ via its parent company, Sidmar:

1984 Purchase of Sidmar's Common and Preference Shares

In 1984, the GOB made two share subscriptions (one for preference shares and the other for common shares) in Sidmar. The purchase of preference shares was authorized by Royal Decree 245 of December 31, 1983. This Royal Decree allowed the GOB to make preference share subscriptions in the steel industry as long as the subscriptions did not exceed one-half of the social capital of the company.

On January 13, 1984, a Memorandum of Understanding (“MOU”) was signed with respect to the ordinary and preference share subscriptions in Sidmar. On April 27, 1984, NMNS (the GOB agency purchasing the shares), Sidmar, and the GOB signed an agreement committing to these share subscriptions. On May 2, 1984, Sidmar's shareholders approved both the ordinary share and the preference share increases. However, as a result of EC objections, the preference share transaction previously approved by the shareholders was nullified on September 25, 1984. Sidmar shareholders approved a modified preference share subscription on October 16, 1984. The original April 27, 1984 agreement between NMNS, Sidmar, and the GOB was modified in December 1984 to reflect the preference share subscription changes noted above.

In Certain Steel and its attendant litigation, the Department examined the early redemption of the preference shares purchased by the GOB as part of this 1984 transaction, but not the original purchase of the shares, as we found that the petition did not contain enough evidence to support the allegation that Sidmar was unequityworthy in 1984.

As there was no market price for a similar newly-issued equity at the time of the 1984 GOB equity infusions into Sidmar, we examined whether Sidmar was equityworthy or unequityworthy at the time of the 1984 subscriptions. As explained in the Equity Infusions Memorandum, we have preliminarily determined that the January 13, 1984 MOU was the point at which the GOB determined that it would make the equity infusions into Sidmar in exchange for ordinary and preference shares. Furthermore, we have preliminarily determined that the April 14, 1983 study, the only study performed prior to the GOB's decision to invest in Sidmar, was not sufficient to allow the GOB to evaluate the potential risk versus the expected return in its investment in Sidmar. Thus, the analyses did not contain information typically examined by potential private investors considering an equity investment.

Therefore, we preliminarily determine that the GOB's purchases of Sidmar's ordinary and preferred shares in 1984 constitute a countervailable subsidy within the meaning of section 771(5) of the Act. This investment provides a financial contribution, as described in section 771(5)(D)(i) of the Act. Also, in Plate in Coils from Belgium we determined that benefits under Royal Decree No. 245 are available only to the steel sector. On this basis, we preliminarily determine that this program is specific under section 771(5A)(D)(i) of the Act. Finally, because the analysis performed prior to the 1984 infusion in Sidmar did not contain information typically examined by potential private investors considering an equity investment, the investment decision was inconsistent with the usual investment practice of private investors. Therefore, a benefit exists according to section 771(5)(E)(i) of the Act in the amount of the equity infusion.

To calculate the benefit applicable to the POR, we applied the Department's standard grant methodology and divided the benefit attributable to 1998 and 1999 by Sidmar's total sales during 1998 and 1999, respectively. On this basis, we preliminarily determine the countervailable subsidy for 1998 to be 1.14 percent ad valorem, and the countervailable subsidy for 1999 to be 1.10 percent ad valorem.

Conversion of Sidmar's Debt to Equity (OCPC-to-PB) in 1985

Between 1979 and 1983, the GOB assumed the interest costs associated with medium- and long-term loans for certain steel producers, including Sidmar. In exchange for the GOB's assumption of financing costs, Sidmar agreed to the conditional issuance of convertible profit sharing bonds (“OCPCs”) to the GOB. In 1985, Sidmar and the GOB agreed to substitute parts beneficiaires (“PBs”) for the OCPCs.

In Plate in Coils from Belgium, we analyzed this program according to the equity methodology that was in place prior to the issuance of the Department's current subsidy regulations. We found in our investigation that: (1) The GOB's initial assumption of interest costs were specific under section 771(5A) of the Act; (2) the OCPCs were properly classifiable as debt and that the conversion of OCPCs to PBs constituted a debt-to-equity conversion; and (3) based on a comparison of the price paid for the PBs to an adjusted market value of Sidmar's common stock, the debt-to-equity conversion provided a benefit to Sidmar as the share transactions were on terms inconsistent with the usual practice of a private investor.

On this basis, we determined that this program constituted a countervailable subsidy within the meaning of section 771(5) of the Act. The debt-to-equity conversion provided a financial contribution, as described in section 771(5)(D)(i) of the Act. Moreover, because benefits under this program were available only to certain steel producers, we determined that the program was specific under section 771(5A)(D)(i) of the Act.

In the instant review, we are re-examining this debt-to-equity conversion based on the change in our equity methodology effected by our new regulations, noted above. See New Allegations Memo.

Information on the record indicates that no private investors purchased the PBs or similar shares at the time of the GOB's debt-to-equity conversion. Therefore, we examined whether Sidmar was equityworthy or unequityworthy at the time of the 1985 debt-to-equity conversion.

As explained in the Equity Methodology section, above, we examined any analysis relied upon by the GOB in making its decision to purchase the PBs as part of the debt-to-equity conversion. Based on our review of this information, we have preliminarily determined that no objective studies of Sidmar, containing information typically examined by potential private investors considering an equity investment, had been prepared prior to the GOB's investment decision on which the GOB could have based its decision to participate in the debt-for-equity conversion. See the Equity Infusions Memorandum.

Therefore, we preliminarily determine that the GOB's 1985 debt-to-equity conversion constitutes a countervailable subsidy within the meaning of section 771(5) of the Act. This debt-to-equity conversion provides a financial contribution, as described in section 771(5)(D)(i) of the Act. Also, in Plate in Coils from Belgium, we determined that because benefits under this program were available only to certain steel producers, the program was specific under section 771(5A)(D)(i) of the Act. Finally, because the analyses performed prior to the debt-to-equity conversion did not contain information typically examined by potential private investors considering an equity investment, the investment decision was inconsistent with the usual investment practice of private investors. Therefore, a benefit exists according to section 771(5)(E)(i) of the Act in the amount of the equity infusion.

In Plate in Coils from Belgium, to measure the benefit from the debt-to-equity conversion, we calculated the premium paid by the government as the difference between the price paid by the government for the PBs and the adjusted market price of the common shares. For purposes of these preliminary results, we have treated the entire price paid by the government as the amount of the benefit. For the portion of the benefit that was previously countervailed, we have continued to rely on an AUL of 19 years as we did in Plate in Coils from Belgium; for the portion not previously allocated, we allocated the remaining amount over Sidmar's current AUL for this review, also 19 years. We applied the Department's standard grant methodology and divided the total benefit in 1998 and 1999 by Sidmar's total sales during 1998 and 1999, respectively. On this basis, we preliminarily determine the countervailable subsidy for 1998 to be 0.68 percent ad valorem, and the countervailable subsidy for 1999 to be 0.67 percent ad valorem.

SidInvest

The right to establish “Invests” was limited to the five national industries, including the steel industry. SidInvest was incorporated on August 31, 1982, as a holding company jointly owned by Sidmar and the Societe Nationale d'Investissement, S.A. (“SNI”) (a government financing agency). SidInvest was given drawing rights on SNI to finance specific projects. The drawing rights took the form of conditional refundable advances (“CRAs”), which were interest-free, but repayable to SNI based on a company's profitability.

SidInvest made periodic repayments of the CRAs it had drawn from SNI. However, in 1987, the GOB moved to accelerate the repayment of the CRAs. The government agency NMNS and SidInvest discussed two options including (i) paying back the CRAs at a rate of three percent per year and (ii) repaying immediately the discounted value calculated as if the full amount were due 32 years later. In early 1988, under the first option, SidInvest agreed to pay back the outstanding balance on the CRAs at a rate of 3 percent per year.

Later, in July 1988, an agreement was reached for NMNS to become a shareholder in SidInvest by contributing the CRAs owed to the government by SidInvest in exchange for SidInvest stock. In a second agreement, through a series of transactions, the Sidmar Group then repurchased the SidInvest shares obtained by NMNS.

Consistent with Plate In Coils from Belgium and Certain Steel, we determine that the CRAs were interest-free loans with no fixed repayment period. However, the various agreements that took place on July 29, 1988, changed the CRAs. First, it was agreed that repayment would be achieved over 32 years. Second, the GOB swapped that repayment obligation for shares in SidInvest and sold those shares back to various members of the Sidmar group. The benefit to Sidmar in these transactions was that it was able to purchase the GOB's shares at too low a price. This occurred because: (i) The GOB agreed to accept in payment the net present value of the amount due in 32 years and (ii) it calculated the net present value using a non-commercial interest rate. The combination of these two elements of the July 29, 1988 agreements meant that the GOB forgave a considerable portion of the amount it had loaned through the CRAs.

In Plate In Coils from Belgium, we found that this program conferred a countervailable subsidy within the meaning of section 771(5) of the Act. This program provided a financial contribution as described in section 771(5)(D)(i) of the Act. Moreover, because the right to establish “Invests” (and, consequently, any forgiveness of loans given to the Invests) was limited to the five national sectors, the program was specific under section 771(5A)(D)(i) of the Act. In this review, no new information has been placed on the record which would warrant reconsideration of this determination.

To measure the benefit arising from the events of July 29, 1988, we have deducted from SidInvest's outstanding indebtedness the cash received by the GOB. We have treated the remainder as a grant and allocated the benefit over Sidmar's AUL. We divided the total benefit attributable to 1998 and 1999 by Sidmar's total sales during 1998 and 1999, respectively. On this basis, we preliminarily determine the countervailable subsidy for 1998 to be 0.40 percent ad valorem, and the countervailable subsidy for 1999 to be 0.40 percent ad valorem.

II. Programs Preliminarily Determined to Be Not Used

We examined the following programs and preliminarily determine that ALZ did not apply for or receive benefits under these programs during the POR:

A. Government of Belgium Programs

1. Subsidies Provided to Sidmar that are Potentially Attributable to ALZ Water Purification Grants

2. Societe Nationale pour la Reconstruction des Secteurs Nationaux

3. Regional subsidies under the 1970 Law Investment and Interest Subsidies

4. Reduced Social Security Contributions Pursuant to the Maribel Scheme (Article 35 of the Law of June 29, 1981)

Under Article 35 of the Law of June 29, 1981 (called the “Maribel scheme”), companies in Belgium that employed manual workers were granted a reduction in social security contributions for each manual worker. This law was amended several times to allow even smaller contributions for companies employing manual laborers in certain industries. A 1993 Royal Decree introduced the “Maribel Bis” scheme, which reduced contributions for companies employing manual workers in processing industries most exposed to internal competition. The 1994 Royal Decrees, which introduced the “Maribel Ter” scheme, reduced contributions for companies employing manual workers in sectors most exposed to international competition, as well as the international transportation, horticulture, forestry, and the exploitation of forestry sectors.

ALZ and the GOB both claimed in their responses that neither ALZ nor Sidmar received benefits under the Maribel Bis or Maribel Ter systems. Both parties stated that the Maribel Bis and Maribel Ter systems were terminated effective July 1, 1997, although neither ALZ nor the GOB was able to produce any decree or other document clearly stating that the program was terminated as of that date (or any other date). Pursuant to a Royal Decree of December 24, 1999, the GOB required the companies that had received reductions under Maribel Bis and Ter to repay to the GOB the monies they received under Maribel Bis and Ter. Since the GOB terminated Maribel Bis and Maribel Ter, and neither ALZ, Albufin, nor Sidmar have received reductions in their social security contributions as a result of these systems since the second quarter of 1997, the respondents claimed that no benefit could have possibly accrued to ALZ, Albufin, or Sidmar during the POR.

Despite the claims by the GOB and ALZ that the companies under review did not benefit from these programs, the petitioners argue that the Department has not made a determination that these programs were recurring or non-recurring and allege that record evidence suggests that the respondents continue to receive benefits under the Maribel Schemes. In particular, the petitioners point out that (1) the 1998 and 1999 financial statements of ALZ and Sidmar confirm that benefits were provided by the GOB to these companies; (2) the GOB admits that no specific document terminating this program exists; and (3) ALZ and the GOB failed to provide any documentation showing that payments received were returned to the GOB by ALZ, Albufin or Sidmar.

For purposes of these preliminary review results, we are not calculating a subsidy for this program. We agree with ALZ that the Department normally treats reduced social security contributions as recurring benefits under section 351.524(c) of our regulations. Consequently, if the Maribel Bis and Ter schemes were terminated in 1997, there would be no benefit to ALZ during the POR. ALZ has explained that the references to Maribel in its 1998 and 1999 financial statements are to the general Maribel scheme and not to Maribel Bis and Ter (the only parts of the Maribel program being reviewed).

Prior to our final results, we intend to seek further information from the GOB and ALZ regarding the termination of the Maribel Bis and Ter schemes, or repayment of any benefits received by ALZ under these programs.

B. Government of Flanders Programs

1. Regional subsidies under the 1970 Law

a. Corporate Income Tax Exemption

b. Capital Registration Tax Exemption

c. Government Loan Guarantees

d. 1993 Expansion Grant

2. Special Depreciation Allowance

3. Preferential Short-Term Export Credit

4. Interest Rate Rebates

C. Programs of the European Commission

1. ECSC Article 54 Loans and Interest Rebates

2. ECSC Article 56 Conversion Loans, Interest Rebates and Redeployment Aid

3. European Social Fund Grants

4. European Regional Development Fund Grants

5. Resider II Program

Preliminary Results of Review

In accordance with 19 CFR 351.221(b)(4)(i), we calculated an individual subsidy rate for ALZ, the only producer/exporter subject to this administrative review. For the period September 4, 1998 through December 31, 1998, we preliminarily determine the net subsidy rate for ALZ to be 3.40 percent; for January 1, 1999 and for the period May 11, 1999 through December 31, 1999, we preliminarily determine the net subsidy rate for ALZ to be 2.90 percent. (In accordance with section 703(d) of the Act, countervailing duties will not be assessed on entries made during the period January 2, 1999 through May 10, 1999.) If the final results of this review remain the same as these preliminary results, the Department intends to instruct Customs to assess countervailing duties at these net subsidy rates.

The Department also intends to instruct Customs to collect cash deposits of estimated countervailing duties at the 1999 rate on the f.o.b. value of all shipments of the subject merchandise from ALZ entered, or withdrawn from warehouse, for consumption on or after the date of publication of the final results of this administrative review.

Because the URAA replaced the general rule in favor of a country-wide rate with a general rule in favor of individual rates for investigated and reviewed companies, the procedures for establishing countervailing duty rates, including those for non-reviewed companies, are now essentially the same as those in antidumping cases, except as provided for in section 777A(e)(2)(B) of the Act. The requested review will normally cover only those companies specifically named. See 19 CFR 351.213(b). Pursuant to 19 CFR 351.212(c), for all companies for which a review was not requested, duties must be assessed at the cash deposit rate, and cash deposits must continue to be collected, at the rate previously ordered. As such, the countervailing duty cash deposit rate applicable to a company can no longer change, except pursuant to a request for a review of that company. See Federal-Mogul Corporation v. United States, 822 F.Supp. 782 (CIT 1993), and Floral Trade Council v. United States, 822 F.Supp. 766 (CIT 1993). Therefore, the cash deposit rates for all companies, except those covered by this review, will be unchanged by the results of this review.

We will instruct Customs to continue to collect cash deposits for non-reviewed companies at the most recent company-specific or country-wide rate applicable to the company. Accordingly, the cash deposit rates that will be applied to non-reviewed companies covered by this order are those established in the most recently completed administrative proceeding conducted under the URAA. If such a review has not been conducted, the rate established in the most recently completed administrative proceeding pursuant to the statutory provisions that were in effect prior to the URAA amendments is applicable. See Certain Cut-to-Length Carbon Steel Plate from Mexico: Final Results of Countervailing Duty Administrative Review, 65 FR 13368, 13369 (March 13, 2000). These rates shall apply to all non-reviewed companies until a review of a company assigned these rates is requested. In addition, for the periods September 4, 1998 through January 1, 1999 and May 11, 2000 through December 31, 1999, the assessment rates applicable to all non-reviewed companies covered by this order are the cash deposit rates in effect at the time of entry.

Public Comment

Pursuant to 19 CFR 351.224(b), the Department will disclose to parties to the proceeding any calculations performed in connection with these preliminary results within five days of the date of the public announcement of this notice. Pursuant to 19 CFR 351.309, interested parties may submit written arguments in case briefs within 30 days of the date of publication of this notice. Rebuttal briefs, limited to issues raised in case briefs, may be filed not later than five days after the date of filing the case briefs. Parties who submit briefs in this proceeding should provide a summary of the arguments not to exceed five pages and a table of statutes, regulations, and cases cited. Copies of case briefs and rebuttal briefs must be served on interested parties in accordance with 19 CFR 351.303(f).

Interested parties may request a hearing within 30 days after the date of publication of this notice. Any hearing, if requested, will be held two days after the scheduled date for submission of rebuttal briefs.

The Department will publish a notice of the final results of this administrative review within 120 days from the publication of these preliminary results.

This administrative review and notice are in accordance with sections 751(a)(1) and 777(i)(1) of the Act. Effective January 20, 2001, Bernard T. Carreau is fulfilling the duties of the Assistant Secretary for Import Administration.

Dated: April 16, 2001.
Bernard T. Carreau,
Deputy Assistant Secretary, Import Administration.

[FR Doc. 01-9977 Filed 4-20-01; 8:45 am]

BILLING CODE 3510-DS-P